DEPARTMENT OF ENERGY

Federal Energy Regulatory Commission

[Docket No. ER05-52-000]

ISO New England, Inc. and New England Power Pool; Notice of Staff Technical Conference

February 8, 2005.

On December 13, 2004, a data request was issued directing the New England Power Pool and ISO New England, Inc., to provide additional information regarding the data used to develop the Hydro Quebec Interconnection Capacity Credit values for the 2005/2006 Power Year. See New England Power Pool Letter Order issued in Docket No. ER05-52-000 on December 13, 2004.

On January 12, 2005, New England Power Pool and ISO New England, Inc., filed a request for a technical session so that interested stakeholders may discuss their concerns with Staff regarding the establishment of Hydro Quebec Capacity Credit values. Take notice that a Staff technical conference on the determination of Hydro Quebec Interconnection Capacity Credit values will be held for one day, on Monday February 14, 2005, at 10 a.m. (EST), in a room to be designated at the offices of the Federal Energy Regulatory Commission, 888 First Street, NE., Washington, DC 20426.

All interested persons are permitted to attend. Additionally, all interested persons who wish to monitor the technical conference by telephone must contact Valerie Martin, either by e-mail at valerie.martin@ferc.gov or by telephone at (202) 502-6139 no later than 5 p.m. Thursday February 10, 2005, stating your name, the name of the entity you represent, and an e-mail address or telephone number where you can be reached.

The technical conference telephone number and other information will be provided to those submitting requests to monitor the conference, preferably by return e-mail.

Linda Mitry,
Deputy Secretary.

[FR Doc. E5-623 Filed 2-14-05; 8:45 am]

BILLING CODE 6717-01-P